DEPARTMENT OF COMMERCE

National Oceanic and Atmospheric Administration

RIN 0648-XL24

Marine Fisheries Advisory Committee; Public Meetings

AGENCY: National Marine Fisheries Service (NMFS), National Oceanic and Atmospheric Administration (NOAA), Commerce.

ACTION: Notice of open public meeting.

SUMMARY: Notice is hereby given of a meeting of the Marine Fisheries Advisory Committee (MAFAC). This will be the second meeting to be held in the calendar year 2008. Agenda topics are provided under the SUPPLEMENTARY INFORMATION section of this notice. All full Committee sessions will be open to the public.

DATES: The meeting will be held November 12-14, 2008, from 8:30 a.m. to 5 p.m.

ADDRESSES: The meeting will be held at the Hotel Chateau LeMoyne, 301 Rue Dauphine, New Orleans, LA 70112; (504) 581-1303

FOR FURTHER INFORMATION CONTACT: Mark Holliday, MAFAC Executive Director; (301) 713-2239 x120; e-mail: Mark.Holliday@noaa.gov.

SUPPLEMENTARY INFORMATION: As required by section 10(a)(2) of the Federal Advisory Committee Act, 5 U.S.C. App. 2, notice is hereby given of a meeting of MAFAC. MAFAC was established by the Secretary of Commerce (Secretary) on February 17, 1971, to advise the Secretary on all living marine resource matters that are the responsibility of the Department of Commerce. This committee advises and reviews the adequacy of living marine resource policies and programs to meet the needs of commercial and recreational fisheries, and environmental, State, consumer, academic, tribal, governmental and other national interests. The complete charter and summaries of prior meetings are located online at http://www.nmfs.noaa.gov/ocs/mafac/.

Matters To Be Considered

The order in which these matters are considered is subject to change.

November 12, 2008

The meeting will begin with opening remarks and introductions to the full committee from Dr. Jim Balsiger, Acting Assistant Administrator for NOAA Fisheries. The remainder of the day will cover various MAFAC administration and organizational matters, including: new member orientation; review of travel, financial disclosure and ethics requirements; and subcommittee organization, chairmanship, current issues, and future issues.

November 13, 2008

Updates will be presented on: Magnuson-Stevens Act Reauthorization; seafood inspection; and ecolabeling and seafood certification. Other topics to be discussed are the NOAA Fisheries Southeast Regional Office and Gulf of Mexico Regional Fishery Management Council experiences with individual fishery quotas, and the pending aquaculture amendment.

November 14, 2008

The Committee will hear presentations and discuss policies influencing U.S. fisheries infrastructure, with specific reference to the federal/NOAA/state agency response to the effects of recent hurricane events on Gulf coast fisheries, including supporting infrastructure. This will be followed by a discussion of how to annually appraise progress on the MAFAC 2020 report recommendations, and a decision on the process for advancing/communicating the ideas contained in the MAFAC transition paper. The meeting will conclude with a review of action items and next steps, and a decision on the time and place of the spring 2009 meeting.

Special Accommodations

The meeting location is physically accessible to people with disabilities. Requests for sign language interpretation or other auxiliary aids should be directed to Mark Holliday, MAFAC Executive Director; (301) 713-2239 x120 by 5 p.m. October 27, 2008.

Dated: October 9, 2008.
James W. Balsiger,
Acting Assistant Administrator for Fisheries, National Marine Fisheries Service.

[FR Doc. E8-24594 Filed 10-15-08; 8:45 am]

BILLING CODE 3510-22-S